DEPARTMENT OF DEFENSE

Office of the Secretary

Defense Advisory Committee on Military Personnel Testing; Notice of Federal Advisory Committee Meeting

AGENCY: Under Secretary of Defense for Personnel and Readiness, Department of Defense (DoD).

ACTION: Notice of Federal Advisory Committee meeting.

SUMMARY: The DoD is publishing this notice to announce that the following Federal Advisory Committee meeting of the Defense Advisory Committee on Military Personnel Testing will take place.

DATES: Day 1—Open to the public Tuesday, March 24, 2020 from 9 a.m. to 5 p.m. Day 2—Open to the public Wednesday, March 25, 2020 from 9 a.m. to 1:30 p.m.

ADDRESSES: Meeting address is: Hotel Pacific, 300 Pacific St., Monterey, CA 93940.

FOR FURTHER INFORMATION CONTACT: Designated Federal Officer, Sofiya Velgach, (703) 697-9271 (Voice), 703 614-9272 (Facsimile), osd.pentagon.ousd-p-r.mbx.dacmpt@mail.mil (Email). Mailing address is Assistant Director, Accession Policy, Office of the Under Secretary of Defense for Personnel and Readiness, Room 3D1066, The Pentagon, Washington, DC 20301-4000.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The purpose of the meeting is to review planned changes and progress in developing selection and classification tests for military accession screening.

Agenda

Day 1, Tuesday, March 24, 2020

9 a.m.-9:15 a.m. Welcome and Opening Remarks, Dr. Sofiya Velgach, OASD(M&RA)/AP*

9:15 a.m.-9:45 a.m. Accession Policy Update, Ms. Stephanie Miller, OASD(M&RA)/Director, AP*

9:45 a.m.-10:15 a.m. Milestones and Project Schedules, Dr. Mary Pommerich, OPA/DPAC*

10:15 a.m.-10:30 a.m. Break

10:30 a.m.-11:30 a.m. Device Evaluation Update and Future Use, Dr. Tia Fechter/Dr. Dan Segall, OPA/DPAC*

11:30 a.m.-12 p.m. ASVAB CEP* Update, Dr. Shannon Salyer, OPA/DPAC*

12:00 p.m.-1 p.m. Lunch

1:00 p.m.-1:45 p.m. CAT-ASVAB New Forms Update, Dr. Matt Trippe, HumRRO*

1:45 p.m.-2:15 p.m. TAPAS* Evaluation Project Overview, Dr. Tim McGonigle, HumRRO*

2:15 p.m.-2:45 p.m. Army Way Ahead, Dr. Len White, ARI*

2:45 p.m.-3:15 p.m. Air Force Way Ahead, Dr. Bobbie Dirr, Air Force Personnel Center

3:15 p.m.-3:30 p.m. Break

3:30 p.m.-4 p.m. Marine Corp Way Ahead, Maj Rachel Gonzales, Headquarters Marine Corps

4 p.m.-4:30 p.m. Navy Way Ahead, Dr. Stephen E. Watson, NETC*

4:30 p.m.-4:45 p.m. Public Comments

Day 2, Wednesday, March 25, 2020

9 a.m.-9:30 a.m. Next Generation ASVAB* Overview, Dr. Mary Pommerich, OPA/DPAC*

9:30 a.m.-11 a.m. Status Report on ASVAB* Evaluations, Dr. Mary Pommerich, OPA/DPAC*

11:00 a.m.-11:15 a.m. Break

11:15 a.m.-11:45 a.m. Consolidating Evaluation Findings, Dr. Tia Fechter, OPA/DPAC*

11:45 a.m.-12:45 p.m. Next Generation ASVAB* Shared Vision Dr. Scott Oppler, HumRRO*

12:45 p.m.-1 p.m. Future Topics, Dr. Dan Segall, OPA/Director, DPAC*

1 p.m.-1:15 p.m. Public Comments

1:15 p.m.-1:30 p.m. Closing Comments, Dr. Michael Rodriguez, Chair

Abbreviations key:

ARI = Army Research Institute

ASVAB = Armed Services Vocational Aptitude Battery

ASVAB CEP = ASVAB Career Exploration Program, provided free to high schools nation-wide to help students develop career exploration skills and used by recruiters to identify potential applicants for enlistment

HumRRO = Human Resources Research Organization

NETC = Naval Education Training Command

OASD(M&RA)/AP = Office of the Assistant Secretary of Defense (Manpower & Reserve Affairs)/Accession Policy

OPA/DPAC = Office of People Analytics/Defense Personnel Assessment Center

TAPAS = Tailored Adaptive Personality Assessment System

Meeting Accessibility: Public's Accessibility to the Meeting: Pursuant to 5 U.S.C. 552b and 41 CFR 102-3.140 through 102-3.165, and the availability of space, this meeting is open to the public. Seating is based on first-come, first-served basis. All members of the public who wish to attend the public meeting must contact the Designated Federal Officer, not later than 12:00 p.m. on Monday, March 16, 2020, as listed in the FOR FURTHER INFORMATION CONTACT section.

Written Statements: Pursuant to 41 CFR 102-3.105(j) and 102-3.140 and section 10(a)(3) of the FACA, interested persons may submit written statements to the Committee at any time about its approved agenda or at any time on the Committee's mission. Written statements should be submitted to the Committee's Designated Federal Officer at the address or facsimile number listed in the FOR FURTHER INFORMATION CONTACT section. If statements pertain to a specific topic being discussed at the planned meeting, then these statements must be submitted no later than five (5) business days prior to the meeting in question. Written statements received after this date may not be provided to or considered by the Committee until its next meeting. The Designated Federal Officer will review all timely submitted written statements and provide copies to all the committee members before the meeting that is the subject of this notice. Please note that since the Committee operates under the provisions of the FACA, all submitted comments and public presentations will be treated as public documents and will be made available for public inspection. Opportunity for public comments will be provided at the end of the meeting. Public comments will be limited to 5 minutes per person, as time allows.

Dated: February 14, 2020.
Aaron T. Siegel,
Alternate OSD Federal Register Liaison Officer, Department of Defense.

[FR Doc. 2020-03361 Filed 2-19-20; 8:45 am]

BILLING CODE 5001-06-P